NUCLEAR REGULATORY COMMISSION

[Docket Nos. 110-05711 (Import); 110-05710 (Export)]

Requests for Licenses To Import and Export Radioactive Waste; Extension of Time for Comment and Intervention

On February 11, 2008, the Commission issued notices on a Request for a License to Import Radioactive Waste and a Request for a License to Export Radioactive Waste. 73 FR 7764-7766. The import/export applications were filed by EnergySolutions, Inc. The notices stated that any written comments and requests for hearing or intervention on the import/export applications should be submitted within 30 days after publication of the notices in the Federal Register.

In response to a number of requests for an extension of this time period, the Commission is issuing a Notice Extending the Period of Time to Comment and Request a Hearing or Intervention on the import/export applications filed by EnergySolutions, Inc. Written comments and a request for a hearing or petition for leave to intervene may be filed by June 10, 2008. Requests for hearing must be filed in accordance with the procedures set forth in 10 CFR part 110, subpart H.

This Notice is issued pursuant to my authority under 10 CFR 110.88.

Dated at Rockville, Maryland this 4th day of March, 2008.
For the Nuclear Regulatory Commission.
Annette L. Vietti-Cook,
Secretary of the Commission.

[FR Doc. E8-4752 Filed 3-7-08; 8:45 am]

BILLING CODE 7590-01-P